DEPARTMENT OF COMMERCE

National Oceanic and Atmospheric Administration

50 CFR Part 660

[Docket No. 99122347-9347-01; I.D. 090700A]

Fisheries off West Coast States and in the Western Pacific; Pacific Coast Groundfish Fishery; End of the Primary Season and Resumption of Trip Limits for the Shore-based Fishery for Pacific Whiting

AGENCY: National Marine Fisheries Service (NMFS), National Oceanic and Atmospheric Administration (NOAA), Commerce.

ACTION: Fishing restrictions; request for comments.

SUMMARY: NMFS announces the end of the 2000 primary season for the shore-based fishery for Pacific whiting (whiting) and resumption of per-trip limits at 6 p.m local time (l.t.) September 15, 2000, because the allocation is projected to be reached. This action is intended to keep the harvest of whiting at the 2000 allocation levels.

DATES: Effective from 6 p.m l.t. September 15, 2000, until the effective date of the 2001 specification and management measures for the Pacific Coast groundfish fishery which will be published in the Federal Register, unless modified, superseded or rescinded. Comments will be accepted through October 5, 2000.

ADDRESSES: Submit comments to William Stelle, Jr., Administrator, Northwest Region (Regional Administrator), NMFS, 7600 Sand Point Way NE., Seattle, WA 98115-0070; or Rebecca Lent, Regional Administrator, Southwest Region, NMFS, 501 West Ocean Blvd., Suite 4200, Long Beach, CA 90802-4213.

FOR FURTHER INFORMATION CONTACT: Becky Renko at 206-526-6110.

SUPPLEMENTARY INFORMATION: This action is authorized by regulations implementing the Pacific Coast Groundfish Fishery Management Plan (FMP), which governs the groundfish fishery off Washington, Oregon, and California. The levels of allowable biological catch (ABC), the optimum yield (OY), and the commercial OY (the OY minus the tribal allocation) for U.S. harvests of Pacific whiting were announced in the Pacific Coast groundfish annual specifications and management measures (annual management measures) that were published on January 4, 2000, in the Federal Register (65 FR 221). For the year 2000 the whiting ABC and OY are 232,000 mt (mt) and the commercial OY is 199,500 mt. Regulations at 50 CFR 660.323(a)(4) divide the commercial OY into separate allocations for the catcher/processor, mothership, and shore-based sectors of the whiting fishery. The 2000 allocations, based on the 2000 commercial OY, are 67,830 mt (34 percent) for the catcher/processor sector, 47,880 mt (24 percent) for the mothership sector, and 83,790 mt (42 percent) for the shore-based sector.

When each sector's allocation is reached, the primary season for that sector is ended. The catcher/processor sector is composed of vessels that harvest and process whiting. The mothership sector is composed of catcher vessels that harvest whiting and mothership vessels that process whiting. The shore-based sector is composed of vessels that harvest whiting for delivery to land-based processors. The regulations at 50 CFR 600.323 (a)(3)(i) describe the primary season for the shore-based sector as the period(s) when the large-scale target fishery is conducted (when trip limits under § 660.323(b) are not in effect). Before and after the primary seasons, per-trip limits are in effect for whiting.

The best available information on September 11, 2000, indicates that 77,746 mt had been taken through September 9, 2000, and that the 83,790 mt shore-based allocation would be reached by 6 p.m. l.t. on September 15, 2000. This Federal Register document announces the date that the primary season for the shore-based sector ends, and that per-trip limits are imposed. This limit is intended to accommodate small bait and fresh fish markets, and bycatch in other fisheries. To minimize incidental catch of chinook salmon by vessels fishing inside of 100 fm (183 m) in the Eureka area, at any time during a fishing trip, a limit of 10,000-lb (4,536 kg) of whiting is in effect year-round (unless landings of whiting are prohibited).

NMFS Action

For the reasons stated here, and in accordance with the regulations at 50 CFR 660.323(a)(4)(iii)(C), NMFS herein announces:

Effective 6 p.m. l.t. on September 15, 2000, no more than 20,000-lb (9,072 kg) of whiting may be taken and retained, possessed or landed by a catcher vessel participating in the shore-based sector of the whiting fishery. If a vessel fishes shoreward of the 100 fm (183 m) contour in the Eureka area (43° - 40° 30' N. lat.) at any time during a fishing trip, the 10,000-lb (4,536 kg) trip limit applies, as announced in the annual management measures at paragraph IV, B (3)(c)(ii).

Classification

This action is authorized by the regulations implementing the FMP. The determination to take this action is based on the most recent data available. The aggregate data upon which the determination is based are available for public inspection at the Office of the Regional Administrator (see ADDRESSES) during business hours. This action is taken under the authority of 50 CFR 660.323(a)(4)(iii)(C) and is exempt from review under Executive Order 12866.

Authority: 16 U.S.C. 1801 et seq.

Dated: September 14, 2000.
Bruce C. Morehead,
Acting Director, Office of Sustainable Fisheries, National Marine Fisheries Service.

[FR Doc. 00-24062 Filed 9-14-00; 4:37 pm]

BILLING CODE 3510-22-S